ENVIRONMENTAL PROTECTION AGENCY

[EPA-HQ-OAR-2004-0500; FRL-9972-77-OAR]

Proposed Information Collection Request; Comment Request; Information Collection Activities Associated With EPA's ENERGY STAR Program in the Residential Sector, EPA ICR No. 2193.04

AGENCY: Environmental Protection Agency (EPA).

ACTION: Notice.

SUMMARY: The Environmental Protection Agency is planning to submit an information collection request (ICR), “EPA's ENERGY STAR Program in the Residential Sector” (EPA ICR No. 2193.04, OMB Control No. 2060-0586) to the Office of Management and Budget (OMB) for review and approval in accordance with the Paperwork Reduction Act. Before doing so, EPA is soliciting public comments on specific aspects of the proposed information collection as described below. This is a proposed extension of the ICR, which was approved through August 31, 2017. An Agency may not conduct or sponsor and a person is not required to respond to a collection of information unless it displays a currently valid OMB control number.

DATE: Comments must be submitted on or before March 6, 2018.

ADDRESSES: Submit your comments, referencing Docket ID No. EPA-HQ-OAR-2004-0500, online using www.regulations.gov (our preferred method), by email to a-and-r-Docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Brian Ng, Energy Star Residential Branch, Mailcode 6202A, Environmental Protection Agency, 1200 Pennsylvania Ave. NW, Washington, DC 20460; telephone number: (202) 343-9162; fax number: (202) 343-2204; email address: ng.brian@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: EPA first developed energy efficiency guidelines for new homes in 1995. ENERGY STAR's new construction programs promote cost-effective, whole house energy efficiency that is independently verified by third party professionals. Through 2016, there have been more than 1.8 million ENERGY STAR certified new homes built in the U.S.

Since participation in the ENERGY STAR program is voluntary, organizations are not required to submit information to EPA. Information received is not of a confidential nature. EPA has developed this ICR to obtain authorization to collect information for the following activities:

Joining the ENERGY STAR Program and Related Activities: An organization interested in joining ENERGY STAR as a partner is asked to submit a partnership agreement establishing its commitment to ENERGY STAR. Partners agree to undertake efforts such as educating their staff and the public about their partnership with ENERGY STAR, developing and implementing a plan to improve energy performance in homes, and highlighting achievements utilizing the ENERGY STAR label.

Verification of ENERGY STAR Guidelines: The purpose of the verification process is to objectively and independently ensure the quality of home construction and improvements with respect to ENERGY STAR guidelines. Under ENERGY STAR's Certified Homes program, verification of a home's energy efficiency occurs when site-built home builders, multifamily high-rise developers, or plants producing manufactured and modular homes want to apply the ENERGY STAR label on homes. The verification process for site-built homes involves the home builder, the third-party verification organization (Home Energy Rating Providers and Home Energy Raters), and the Heating, Ventilation, and Cooling (HVAC) contractor. These organizations complete four checklists as part of the verification process. The verification process for multifamily high-rise units involves the developer and a Licensed Professional (architect or engineer), who submit information both pre-construction and post-construction to ensure that program prerequisites and energy conservation measures are properly installed and meet ENERGY STAR requirements. In addition, plants producing manufactured and modular homes must undergo a certification process to ensure that they consistently produce and install homes that meet ENERGY STAR guidelines. Also, under ENERGY STAR's HVAC Verified Installation program, local program sponsors promote the installation of HVAC systems in homes to meet ENERGY STAR guidelines. Sponsors oversee contractors who perform the installations, perform tests, and report the results to the sponsors. Sponsors submit periodic reports to EPA on these activities.

Evaluation: Partners and other program participants are asked to periodically submit information to EPA as needed to assist in evaluating ENERGY STAR's effectiveness in helping organizations promote energy efficiency in homes, to assess partners' level of interest and ability in promoting ENERGY STAR in the residential sector, and to determine the impact that ENERGY STAR has on residential energy use and the supply and demand for energy-efficient homes and home improvement products and services. In addition, EPA offers online tools, such as the Home Energy Yardstick and Home Energy Advisor, for homeowners to learn about and improve their homes' energy efficiency.

Periodic Reporting: Some partners are asked to submit information to EPA periodically to assist EPA in tracking and measuring progress in building and promoting ENERGY STAR certified homes and installing and promoting energy-efficient improvements.

ENERGY STAR Awards: Each year, partners are eligible for an ENERGY STAR award, which recognizes organizations demonstrating outstanding support in promoting ENERGY STAR. An application is submitted to EPA by interested partners.

Form Numbers: 5900-06, 5900-08, 5900-17, 5900-33, 5900-172, 5900-175, 5900-176, 5900-178, 5900-179, 5900-180, 5900-183, 5900-184, 5900-186, 5900-188, 5900-189, 5900-194, 5900-266, 5900-267, 5900-268, 5900-269, 5900-270, 5900-271, 5900-272.

Respondents/Affected Entities: Home builders, modular and manufactured home manufacturing plants, developers, verification organizations, oversight organizations, energy efficiency program sponsors (e.g., national, regional, state, or local government entities, utilities), architects, engineers, home plan designers, retailers, contractors, and homeowners.

Respondent's Obligation to Respond: Voluntary.

Estimated Number of Respondents: 132,000 (total).

Frequency of Response: Once, quarterly, annually, and occasionally.

Total Estimated Burden: 183,967 hours (per year). Burden is defined at 5 CFR 1320.03(b).

Total Estimated Cost: $13,553,809 (per year). This includes an estimated cost of $13,553,209 for labor and $600 for capital investment, operation and maintenance.

Changes in Estimates: The burden estimates presented in this notice are from the last approval. EPA is currently evaluating and updating these estimates as part of the ICR renewal process. EPA will discuss its updated estimates, as well as changes from the last approval, in the next Federal Register notice to be issued for this renewal.

Dated: December 21, 2017.
Carolyn Snyder,
Director, Climate Protection Partnerships Division.

[FR Doc. 2018-00035 Filed 1-4-18; 8:45 am]

BILLING CODE 6560-50-P